DEPARTMENT OF ENERGY

Federal Energy Regulatory Commission

[Docket No. EC03-120-001, et al.]

Virginia Electric and Power Company, et al.; Electric Rate and Corporate Filings

September 23, 2003.

The following filings have been made with the Commission. The filings are listed in ascending order within each docket classification.

1. Virginia Electric and Power Company

[Docket No. EC03-120 -001]

Take notice that on September 16, 2003, Virginia Electric and Power Company (Applicant), filed a supplement to its application requesting Commission authorization for the Applicant's proposed purchase of an approximately 240 MW cogeneration facility and its appurtenant transmission facilities located in Gordonsville, Virginia.

Applicant states that copies of the filing were served upon it's wholesale requirements customers, the Virginia State Corporation Commission and the North Carolina Utilities Commission.

Comment Date: September 26, 2003.

2. Chandler Wind Partners, LLC

[Docket Nos. EC03-137-000, Desert Southwest Power, LLC ER99-963-001, Foote Creek II, LLC ER99-2769-005, Foote Creek III, LLC ER99-3450-004, Foote Creek IV, LLC ER00-2706-002, Nevada Sun-Peak Limited Partnership ER01-390-002, Ridge Crest Wind Partners, LLC ER01-2760-002, ER02-1866-001]

Take notice that on September 12, 2003, Chandler Wind Partners, LLC (Chandler Wind), Desert Southwest Power, LLC (DSP), Foote Creek II, LLC (Foote Creek II), Foote Creek III, LLC (Foote Creek III), Foote Creek IV, LLC (Foote Creek IV), Nevada Sun-Peak Limited Partnership (Nevada Sun-Peak), Ridge Crest Wind Partners, LLC (Ridge Crest) (collectively, Applicants) filed with the Federal Energy Regulatory Commission an application pursuant to Section 203 of the Federal Power Act and notice of change in status with respect to the transfer of indirect upstream membership interests in Applicants to Caithness Investors, LLC, a newly-formed limited liability company owned by ArcLight Energy Partners Fund I, L.P., and the owners of Caithness Energy, L.L.C. Applicants have requested privileged treatment of the contents of a portion of Exhibit B and of Exhibit I to the Section 203 application.

Comment Date: October 3, 2003.

3. Mississippi Delta Energy Agency, Clarksdale Public Utilities Commission, and Public Service Commission of Yazoo City Entergy Services, Inc., as agent for Entergy Arkansas, Inc. Entergy Louisiana, Inc. Entergy Mississippi, Inc. Entergy New Orleans, Inc. Entergy Gulf States, Inc.

[Docket No. EL03-231-000]

Take notice that on September 17, 2003, the Mississippi Delta Energy Agency (MDEA), the Clarksdale Public Utilities Commission of the City of Clarksdale, Mississippi, (Clarksdale), and the Public Service Commission of Yazoo City of the City of Yazoo City, Mississippi (Yazoo City) filed a Complaint against Entergy Services, Inc. as agent for Entergy Arkansas, Inc., Entergy Louisiana, Inc., Entergy Mississippi, Inc., Entergy New Orleans, Inc., and Entergy Gulf States, Inc. (collectively, Entergy). The Complaint by MDEA, Clarksdale, and Yazoo City challenges the 2003 rate redetermination filing submitted by Entergy on May 20, 2003 in Docket No. ER03-861-000 pursuant to the procedures set forth in the partial settlement agreement filed by Entergy in Docket No. ER95-112-000 and approved by the Commission. MDEA, Clarksdale, and Yazoo City further request that the Commission consolidate proceedings on their Complaint with Docket No. ER03-861-000.

Comment Date: October 2, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-24818 Filed 9-30-03; 8:45 am]

BILLING CODE 6717-01-P